DEPARTMENT OF COMMERCE

National Oceanic and Atmospheric Administration

Call for Review Editor Nominations for the Fifth National Climate Assessment (NCA5)

AGENCY: Office of Oceanic and Atmospheric Research (OAR), National Oceanic and Atmospheric Administration (NOAA), Department of Commerce (DOC).

ACTION: Request for public nominations.

SUMMARY: NOAA, on behalf of USGCRP, is soliciting nominations for Review Editors for the Fifth National Climate Assessment (NCA5). Refer to the NCA5 Draft Prospectus (presented in a previous Federal Register Notice and accessible via www.globalchange.gov/notices and the USGCRP website (www.globalchange.gov/nca5) for further information on the scope, topics, and overarching themes for the report.

NCA5 will adhere to the Global Change Research Act (GCRA), Information Quality Act, and Evidence Act requirements for quality, transparency, and accessibility as appropriate for a Highly Influential Scientific Assessment.

DATES: Nominations should be submitted via the web address specified below https://contribute.globalchange.gov/ and must be received by 30 days after publication of this notice.

ADDRESSES: Nominations for Review Editors must be submitted electronically via a web form accessible via https://contribute.globalchange.gov/. Nominees are asked to identify their areas of expertise based on NCA5's covered topics (see NCA5 Table of Contents below). A CV/resume of no more than 4 pages should be included for optimal consideration. Nominees will also be asked to select all NCA5 chapters for which they seek consideration for selection.

Instructions: Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT: Chris Avery, (202) 419-3474, cavery@usgcrp.gov, U.S. Global Change Research Program.

SUPPLEMENTARY INFORMATION: Background information and additional details on NCA5 can be found at https://www.globalchange.gov/nca5.

This notice seeks nominations for NCA5 Review Editors with pertinent subject matter expertise and scientific background. The Review Editor serves a critical role on the NCA, ensuring that each public and peer review comment has been considered by the author team. Review Editors do not provide additional comments on assigned draft chapters; rather they attest that the annotation is sufficiently responsive to the comment and indicates any revision made to the chapter(s), including the scientific or logical rationale for said action.

Specifically, the Review Editor is charged with:

(a) Ensuring all substantive comments submitted during multiple Public Comment Periods and via a National Academies of Sciences, Engineering, and Medicine panel review are appropriately addressed by authors, and that agreed-upon changes to the chapter are reflected in the draft text of the chapter;

(b) advising Chapter Leads how to manage conflicting comments or contentious issues, as well as supporting discussions between Chapter Leads, Chapter Authors, and Coordinating Lead Authors on how best to consider and incorporate reviewer's feedback into the chapter; and

(c) submitting all necessary materials confirming execution of the above charges.

Potential nominees should be technical experts with climate-related proficiency in at least one of the regions, sectors, or responses topics outlined in the NCA5 Table of Contents (accessible via http://www.globalchange.gov/nca5. Nominees must have demonstrated expertise such that the nominees could contribute to the development of a robust scientific, technical assessment as subject matter experts in one or more of the topics listed.

Responses to this request for nominations for Review Editors must be submitted by 30 days after publication of this FRN. Users can access the nominations form via https://contribute.globalchange.gov/. Interested persons may nominate themselves or third parties, and may nominate more than one person. Each nomination must include:

(1) The nominee's full name, title, institutional affiliation, and contact information;

(2) the desired chapter(s) the nominee wishes to serve as Review Editor on (i.e., area(s) of expertise); and

(3) a short description of his/her qualifications relative to contributing to the report. Nominees are encouraged to submit a CV of no more than 4 pages for optimal consideration.

More information on the function of Review Editors, the tasks (including reporting) expected of them, as well as the tentative dates of commitment can be found at https://contribute.globalchange.gov.

Report Table of Contents

The full list of NCA5 chapters is below and can also be found https://www.globalchange.gov/nca5. Chapter titles reflect the target topics or regions for the chapters. Final titles for the chapter may evolve as authors assess published literature.

Introduction and Summary

1. Overview

Physical Sciences

2. Climate Trends

3. Earth Systems Processes

National Topics

4. Water

5. Energy

6. Land Cover & Land-Use Change

7. Forests

8. Ecosystems

9. Coastal Effects

10. Oceans

11. Agriculture, Food Systems, and Rural Communities

12. Built Environment

13. Transportation

14. Air Quality

15. Human Health

16. Tribes & Indigenous Peoples

17. U.S. International Interests

18. Complex Systems

19. Economics

20. Human Social Systems

Regions

21. Northeast

22. Southeast

23. U.S. Caribbean

24. Midwest

25. Northern Great Plains

26. Southern Great Plains

27. Northwest

28. Southwest

29. Alaska

30. Hawai'i & U.S.-Affiliated Pacific Islands

Response

31. Adaptation

32. Mitigation

Appendices

A1. Report Development Process

A2. Information Quality

A3. Data Tools

A4. Indicators

David Holst,
Chief Financial Officer Administrative Officer, Office of Oceanic and Atmospheric Research, National Oceanic and Atmospheric Administration.

[FR Doc. 2022-11719 Filed 5-31-22; 8:45 am]

BILLING CODE 3510-KB-P